DEPARTMENT OF DEFENSE

Office of the Secretary

[Docket ID DOD-2012-OS-0068]

Privacy Act of 1974; System of Records

AGENCY: Defense Logistics Agency, DoD.

ACTION: Notice to amend a system of records.

SUMMARY: The Defense Logistics Agency is proposing to amend a system of records in its inventory of record systems subject to the Privacy Act of 1974 (5 U.S.C. 552a), as amended.

DATES: The proposed action will be effective on July 16, 2012 unless comments are received which result in a contrary determination.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Jody Sinkler, DLA FOIA/Privacy Act Office, Headquarters, Defense Logistics Agency, ATTN: DGA, 8725 John J. Kingman Road, Suite 1644, Fort Belvoir, VA 22060-6221, or by phone at (703) 767-5045.

SUPPLEMENTARY INFORMATION: The Defense Logistics Agency's system of record subject to the Privacy Act of 1974 (5 U.S.C. 552a), as amended, have been published in the Federal Register and are available from the address in FOR FURTHER INFORMATION CONTACT.

The proposed changes to the record system being amended are set forth below. The proposed amendment is not within the purview of subsection (r) of the Privacy Act of 1974 (5 U.S.C. 552a), as amended, which requires the submission of new or altered systems reports.

Dated: June 12, 2012.
Aaron Siegel,
Alternate OSD Federal Register Liaison Officer, Department of Defense.

S352.10

System name:

Suggestion Files (March 8, 2010, 75 FR 10473).

Changes:

* * * * *

System location:

Replace “ATTN: DHRC-P” with “ATTN: J14.”

* * * * *

Categories of records in the system:

Replace “home” with “work.”

* * * * *

Routine uses of records maintained in the system, including categories of users and the purposes of such uses:

Replace last paragraph with “The DoD “Blanket Routine Uses” may also apply to this system of records.”

* * * * *

Storage:

Replace entry with “Records are maintained on paper.”

Retrievability:

Replace entry with “Records are retrieved by record subject's name, and/or suggestion number.”

Safeguards:

Replace entry with “Access is limited to those individuals who require access to the records to perform official, assigned duties. Physical access is limited through the use of locks, guards, card swipe, and other administrative procedures. Individuals granted access to the system of records receive Annual Information Assurance and Privacy training.”

* * * * *

System manager(s) and address:

Replace “ATTN: DHRC-P” with “ATTN: J14.”

Notification procedure:

Replace entry with “Individuals seeking to determine whether this system of records contains information about themselves should address written inquiries to the DLA FOIA/Privacy Act Office, Headquarters, Defense Logistics Agency, ATTN: DGA, 8725 John J. Kingman Road, Suite 1644, Fort Belvoir, VA 22060-6221.

Inquiry should contain the record subject's full name, work address, type of award, suggestion description, and activity at which nomination or suggestion was submitted.”

Record access procedures:

Replace entry with “Individuals seeking access to information about themselves contained in this system should address written inquiries to the DLA FOIA/Privacy Act Office, Headquarters, Defense Logistics Agency, ATTN: DGA, 8725 John J. Kingman Road, Suite 1644, Fort Belvoir, VA 22060-6221.

Inquiry should contain the record subject's full name, work address, type of award, suggestion description, and activity at which nomination or suggestion was submitted.”

Contesting record procedures:

Replace address within entry with “DLA FOIA/Privacy Act Office, Headquarters, Defense Logistics Agency, ATTN: DGA, 8725 John J. Kingman Road, Suite 1644, Fort Belvoir, VA 22060-6221.”

* * * * *

[FR Doc. 2012-14638 Filed 6-14-12; 8:45 am]

BILLING CODE 5001-06-P